DEPARTMENT OF HOMELAND SECURITY

Federal Emergency Management Agency

[Docket ID FEMA-2016-0002; Internal Agency Docket No. FEMA-B-1617]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before September 12, 2016.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1617, to Rick Sacbibit, Chief, Engineering Services Branch, Federal Insurance and Mitigation Administration, FEMA, 500 C Street SW., Washington, DC 20472, (202) 646-7659, or (email) patrick.sacbibit@fema.dhs.gov.

FOR FURTHER INFORMATION CONTACT: Rick Sacbibit, Chief, Engineering Services Branch, Federal Insurance and Mitigation Administration, FEMA, 500 C Street SW., Washington, DC 20472, (202) 646-7659, or (email) patrick.sacbibit@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. For communities with multiple ongoing Preliminary studies, the studies can be identified by the unique project number and Preliminary FIRM date listed in the tables. Additionally, the current effective FIRM and FIS report for each community are accessible online through the FEMA Map Service Center at www.msc.fema.gov for comparison.

(Catalog of Federal Domestic Assistance No. 97.022, “Flood Insurance.”)

Dated: May 19, 2016.
Roy E. Wright,
Deputy Associate Administrator for Insurance and Mitigation, Department of Homeland Security, Federal Emergency Management Agency.

I. Watershed-based studies:

Community | Community map repository address
Lower Trinity Watershed
Maps Available for Inspection Online at: http://www.fema.gov/preliminaryfloodhazarddata
Chambers County, Texas, and Incorporated Areas
City of Mont Belvieu | City Hall, 11607 Eagle Drive, Mont Belvieu, TX 77523.
City of Old River-Winfree | City Hall, 4818 North Farm to Market 565 Road, Old River-Winfree, TX 77523.
Unincorporated Areas of Chambers County | Chambers County Road and Bridge Department, 201 Airport Road, Anahuac, TX 77514.
Liberty County, Texas, and Incorporated Areas
City of Daisetta | Municipal Building, 410 B Main Street, Daisetta, TX 77533.
City of Dayton | City Hall, 117 Cook Street, Dayton, TX 77535.
City of Dayton Lakes | Liberty County Engineering Department, 2103 Cos Street, Liberty, TX 77575.
City of Devers | Liberty County Engineering Department, 2103 Cos Street, Liberty, TX 77575.
City of Hardin | Hardin City Hall, 142 County Road 2010, Liberty, TX 77575.
City of Liberty | City Hall, Inspection Department, 1829 Sam Houston Street, Liberty, TX 77575.
City of Mont Belvieu | City Hall, 11607 Eagle Drive, Mont Belvieu, TX 77523.
Town of Kenefick | Kenefick Town Hall, 3564 Farm to Market Road 1008, Dayton, TX 77535.
Unincorporated Areas of Liberty County | County Engineering Department, 2103 Cos Street, Liberty, TX 77575.
San Jacinto County, Texas, and Incorporated Areas
Unincorporated Areas of San Jacinto County | San Jacinto County Courthouse, Permit Department, 1 State Highway 150, Room 3, Coldspring, TX 77331.

II. Non-watershed-based studies:

Community | Community map repository address
Nassau County, Florida, and Incorporated Areas
Maps Available for Inspection Online at: http://www.fema.gov/preliminaryfloodhazarddata
Project: 11-04-1944S Preliminary Date: January 15, 2016
City of Fernandina Beach | City Hall, 204 Ash Street, Fernandina Beach, FL 32034.
Unincorporated Areas of Nassau County | Nassau County Building Department, 96161 Nassau Place, Yulee, FL 32097.
Volusia County, Florida, and Incorporated Areas
Maps Available for Inspection Online at: http://www.fema.gov/preliminaryfloodhazarddata
Project: 11-04-1998S Preliminary Date: January 21, 2016
City of Daytona Beach | City Hall, 301 South Ridgewood Avenue, Daytona Beach, FL 32114.
City of Daytona Beach Shores | City Hall, 2990 South Atlantic Avenue, Daytona Beach Shores, FL 32118.
City of Deltona | Department of Development Services, 2345 Providence Boulevard, Deltona, FL 32725.
City of Edgewater | Building and Planning Department, 104 North Riverside Drive, Edgewater, FL 32132.
City of Flagler Beach | City Hall, 105 South 2nd Street, Flagler Beach, FL 32136.
City of Holly Hill | City Hall, City Planner's Office, 1065 Ridgewood Avenue, Holly Hill, FL 32117.
City of New Smyrna Beach | City Hall, 210 Sams Avenue, New Smyrna Beach, FL 32168.
City of Oak Hill | City Hall, 234 South US Highway 1, Oak Hill, FL 32759.
City of Ormond Beach | City Hall, City Manager's Office, 22 South Beach Street, Ormond Beach, FL 32174.
City of Port Orange | City Hall, 1000 City Center Circle, Port Orange, FL 32129.
City of South Daytona | City Hall, 1672 South Ridgewood Avenue, South Daytona, FL 32119.
Town of Ponce Inlet | Town Hall, 4300 South Atlantic Avenue, Ponce Inlet, FL 32127.
Unincorporated Areas of Volusia County | Volusia County Office of Growth Management, 123 West Indiana Avenue, DeLand, FL 32720.
Colleton County, South Carolina, and Incorporated Areas
Maps Available for Inspection Online at: http://www.fema.gov/preliminaryfloodhazarddata
Project: 06-04-C556S Preliminary Date: November 20, 2015
City of Walterboro | City Hall, 242 Hampton Street, Walterboro, SC 29488.
Town of Cottageville | Municipal Complex, 72 Salley Ackerman Drive, Cottageville, SC 29435.
Town of Edisto Beach | Town Hall, 2414 Murray Street, Edisto Beach, SC 29438.
Town of Smoaks | Town Hall, 176 New Street, Smoaks, SC 29481.
Town of Williams | Office of the Clerk, 143 Supply Road, Williams, SC 29493.
Unincorporated Areas of Colleton County | Colleton County Building Code Administration, 31 Klein Street, 3rd Floor Harrelson Building, Walterboro, SC 29488.
Lexington County, South Carolina, and Incorporated Areas
Maps Available for Inspection Online at: http://www.fema.gov/preliminaryfloodhazarddata
Project: 10-04-4870S Preliminary Date: October 30, 2015
City of Cayce | City Hall, 1800 12th Street, Cayce, SC 29033.
City of Columbia | Department of Utilities and Engineering, 1136 Washington Street, Columbia, SC 29201.
City of West Columbia | City Hall, 200 North 12th Street, West Columbia, SC 29169.
Town of Batesburg-Leesville | Town Hall, 120 West Church Street, Suite A, Batesburg-Leesville, SC 29006.
Town of Gaston | Town Hall, 131 North Carlisle Street, Gaston, SC 29053.
Town of Gilbert | Town Hall, 345 Hampton Street, Gilbert, SC 29054.
Town of Irmo | Town Hall, 7300 Woodrow Street, Irmo, SC 29063.
Town of Lexington | Town Hall, 111 Maiden Lane, Lexington, SC 29072.
Town of Pelion | Town Office, 1010 Main Street, Pelion, SC 29123.
Town of Pine Ridge | Pine Ridge Town Hall, 2757 Fish Hatchery Road, West Columbia, SC 29172.
Town of South Congaree | South Congaree Town Hall, 119 West Berry Road, West Columbia, SC 29172.
Town of Springdale | Town Hall, 2915 Platt Springs Road, Springdale, SC 29170.
Town of Swansea | Town Hall, 300 West 3rd Street, Swansea, SC 29160.
Unincorporated Areas of Lexington County | Lexington County Planning Department, County Administration Building, 212 South Lake Drive, Lexington, SC 29072.

[FR Doc. 2016-13809 Filed 6-10-16; 8:45 am]

BILLING CODE 9110-12-P